DEPARTMENT OF DEFENSE

Department of the Army

Notice of Availability for Exclusive, Non-Exclusive, or Partially-Exclusive Licensing of an Invention Concerning Therapeutic Peptides That Inhibit Rift Valley Fever Virus, Ebola Virus, Andes Virus and Vesicular Stomatitis Virus Infectivity, Compositions and Methods

AGENCY: Department of the Army, DoD.

ACTION: Notice.

SUMMARY: Announcement is made of the availability for licensing of the invention set forth in U.S. Provisional Patent Application Serial No. 61/733,966, entitled “Therapeutic Peptides that Inhibit Rift Valley Fever Virus, Ebola Virus, Andes Virus and Vesicular Stomatitis Virus Infectivity, Compositions and Methods,” filed on December 6, 2012. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to novel, broad spectrum, antiviral peptides, compositions containing one or more of these and their use for the prophylactic treatment against and/or therapeutic treatment of infection by hemorrhagic fever viruses (HFVs), such as Rift Valley fever virus (RVFV), Ebola virus (EBOV), and Andes virus (ANDV). Additionally, these peptides were capable of inhibiting vesticular stomatitis virus (VSV), and agricultural pathogen with limited therapeutic availability.

Brenda S. Bowen,
Army Federal Register Liaison Officer.

[FR Doc. 2013-30357 Filed 12-19-13; 8:45 am]

BILLING CODE 3710-08-P